NATIONAL ARCHIVES AND RECORDS ADMINISTRATION

[NARA-2014-014]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 5, 2014. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Commerce, Bureau of Economic Analysis (DAA-0375-2013-0002, 15 items, 15 temporary items). Records of the Balance of Payments Division including correspondence, methodology files, special studies, surveys, and preliminary records gathered to produce economic tables and adjustments.

2. Department of Commerce, Bureau of Economic Analysis (DAA-0375-2013-0003, 8 items, 8 temporary items). Records of the Direct Investment Division including methodology files, publications, correspondence, special projects, and international transaction surveys.

3. Department of Commerce, National Oceanic and Atmospheric Administration (DAA-0370-2013-0001, 9 items, 9 temporary items). Records related to export administration regulations, including endorsements, inventories, and summary reports.

4. Department of Defense, Office of the Secretary of Defense (DAA-0330-2013-0011, 1 item, 1 temporary item). Guest books containing the signatures and personal comments of high-level visitors to the Secretary of Defense and Deputy Secretary of Defense.

5. Department of Defense, Office of the Secretary of Defense (DAA-0330-2013-0017, 1 item, 1 temporary item). Master files of an electronic information system used to file complaints against postsecondary educational institutions.

6. Department of Defense, Office of the Secretary of Defense (DAA-0330-2013-0019, 1 item, 1 temporary item). Master files of electronic information systems used to review and adjudicate personnel security actions.

7. Department of Defense, Defense Commissary Agency (DAA-0506-2013-0002, 4 items, 4 temporary items). Master files of an electronic information system used by the agency's Office of Inspector General to manage investigations of fraud, waste, and abuse in commissary operations. Also included are policy and procedure records for use of the system.

8. Department of Defense, Defense Health Agency (DAA-0330-2013-0007, 1 item, 1 temporary item). Master files of an electronic information system used to support the treatment of traumatic brain injuries.

9. Department of Defense, Defense Logistics Agency (DAA-0361-2013-0007, 2 items, 2 temporary items). Records used to create recommendations to improve efficiency.

10. Department of Defense, Defense Logistics Agency (DAA-0361-2013-0008, 5 items, 5 temporary items). Records related to the inventory and control of small arms.

11. Department of Education, Federal Student Aid (DAA-0441-2013-0002, 10 items, 10 temporary items). Student aid applications, data files, and financial records related to the Federal student loan program.

12. Department of Health and Human Services, Office of the Secretary (DAA-0468-2013-0014, 1 item, 1 temporary item). Master files of electronic information systems containing patient medical care and tracking records.

13. Department of Homeland Security, Agency-wide (DAA-0563-2012-0002, 30 items, 18 temporary items). Public affairs records of the Department and its component agencies including biographies and speeches not at the executive level, background files for press conference records, copies of audiovisual recordings, and routine communications. Proposed for permanent retention are biographies and speeches at the executive level, press conference records, master files of audiovisual recordings, and significant publications.

14. Department of Justice, Agency-Wide (DAA-0060-2013-0006, 5 items, 5 temporary items). Master files of an electronic information system containing copies of shared documents, account certifications, and system logs.

15. Department of Justice, Federal Bureau of Investigation (DAA-0065-2013-0003, 3 items, 3 temporary items). Master files and outputs of an electronic system used to track and manage surveillance requests.

16. Department of Labor, Bureau of Labor Statistics (DAA-0257-2013-0001, 2 items, 1 temporary item). Electronic copies of economic research papers. Proposed for permanent retention are the paper copies of these records.

17. Department of the Treasury, Internal Revenue Service (DAA-0058-2014-0001, 1 item, 1 temporary item). Taxpayer offers used to settle tax liability cases.

18. Department of the Treasury, Internal Revenue Service (DAA-0058-2014-0002, 1 item, 1 temporary item). Master files of an electronic information system used to reduce the payment of fraudulent tax refunds.

19. Department of the Treasury, Internal Revenue Service (DAA-0058-2014-0003, 1 item, 1 temporary item). Forms used to extract data from compliance systems.

20. Department of the Treasury, Internal Revenue Service (N1-590-12-1, 21 items, 19 temporary items). Records of the Joint Board for the Enrollment of Actuaries including enrollment applications, disciplinary files, reports, correspondence, and related master files of electronic information systems used to track and store case data. Proposed for permanent retention are meeting minutes and organization files.

21. Administrative Office of the United States Courts, Agency-wide (DAA-0116-2014-0001 3 items, 2 temporary items). Administrative records relating to routine audits, subject files, and general correspondence. Proposed for permanent retention is the correspondence of the Director or the Deputy Director.

22. Administrative Office of the United States Courts, United States Courts of Appeals (DAA-0276-2013-0003, 1 item, 1 temporary item). Circuit mediation records relating to cases.

23. Christopher Columbus Fellowship Foundation, Agency-wide (N1-508-14-1, 15 items, 6 temporary items). Compliance reports, general program correspondence, application records, award records, and routine photographs. Proposed for permanent retention are board of trustees records, correspondence of the executive director, publications, posters, video recordings, and captioned photographs.

24. Court Services and Offenders Supervision Agency for the District of Columbia, Community Supervision Services (DAA-0562-2013-0013, 1 item, 1 temporary item). Master files of an electronic information system used to manage and track closed offender records.

25. National Aeronautics and Space Administration, Agency-wide (DAA-0255-2014-0001, 2 items, 2 temporary items). Employment records of the agency's exchanges, recreational associations, and child care and educational development centers.

26. National Archives and Records Administration, Agency-wide (DAA-0064-2014-0001, 2 items, 1 temporary item). Email records from staff accounts. Proposed for permanent retention are senior agency officials' emails.

27. Securities and Exchange Commission, Division of Economic and Risk Analysis (N1-266-12-01, 15 items, 14 temporary items). Taxonomy development records, organizational information records, academic literature reviews, risk assessment models, and reports supporting rulemaking. Proposed for permanent retention are taxonomies used in the data reporting system.

28. U.S. Commission on Civil Rights, Agency-wide (N1-453-12-1, 103 items, 76 temporary items). Records related to the 10 business units of the agency including congressional affairs, public affairs, equal employment opportunity programs, human resources, administrative services, information technology, and regional programs. Also included are records of the Office of the Staff Director, Office of the General Counsel, Office of Civil Rights Evaluation, and Rankin Civil Rights Library. Proposed for permanent retention are Commission meeting files of the staff director, transcripts of Commission meetings, executive session files, hearing and briefing records, commissioners' correspondence, special project files, congressional committee files, legislative history files, speech files, biographical files, reports to Congress, project case files, and organizational planning and structure files.

Dated: January 27, 2014.
Paul M. Wester, Jr.,
Chief Records Officer for the U.S. Government.

[FR Doc. 2014-02178 Filed 1-31-14; 8:45 am]

BILLING CODE 7515-01-P